OFFICE OF MANAGEMENT AND BUDGET

Acquisition Advisory Panel

AGENCY: Office of Management and Budget, Executive Office of the President.

ACTION: Notice of Federal Advisory Committee meeting.

SUMMARY: Pursuant to the provisions of the Federal Advisory Committee Act (Pub. L. 92-463, as amended), notice is hereby given that the Acquisition Advisory Panel established in accordance with the Services Acquisition Reform Act of 2003 will meet on March 30, 2005 and again on April 19, 2005 at 9 a.m., eastern time. Location for the March 30, 2005 meeting will be the General Services Administration (GSA) Auditorium at 1800 F. Street, NW., Washington, DC 20405. While the meeting is open to the public, building security requires you to provide your name to the Designated Federal Officer (DFO) (contact information listed below) by March 28, 2005. You will need photo identification to enter the building. Location for the April 19, 2005 meeting is expected to be the Federal Deposit Insurance Corporation (FDIC) basement auditorium, 801 17th Street NW., Washington DC 20434. While this meeting is open to the public, building security requires that you provide your name to the DFO by April 14, 2005. Confirm the location of the April 19th meeting by visiting the Panel's Web site at http://www.acqnet.gov/aap. Confirmation is expected to be posted by March 21, 2005. The Panel's statutory charter is to review Federal contracting laws, regulations, and governmentwide policies, including the use of commercial practices, performance-based contracting, performance of acquisition functions across agency lines of responsibility, and governmentwide contracts. The Panel established the following five working groups during its February 28, 2005 meeting: Commercial Practices/Commercial Items; Performance-based Contracting; Governmentwide Contracts and Interagency Contract Vehicles; Cross-cutting Issues—Small Business, and; Cross-cutting Issues—Federal Workforce. The working groups will report on their initial progress during the March 30th, 2005 meeting, which may also include any follow-up recommendations for additional working groups or other issues to be examined. The April 19th meeting will cover any significant updates as well as discussions related to the topics of each of the working groups. The public may obtain copies of Initial Working Group Issues for the Commercial Practices, Governmentwide Contracts and Interagency Contract Vehicles, Performance-based Contracting, and Cross-cutting Issues—Federal Workforce working groups at the Panel's Web site under Working Groups at http://www.acqnet.gov/aap.

In addition to discussions related to these working groups, the Panel has also invited presentations from specific individuals in the private sector on commercial practices during the March 30th meeting and individuals from both the public and private sectors during the April 19th meeting. These presentations will focus on a number of issues including, but not limited to commercial practices/techniques for the use of time and materials or labor hour contracts, share-in-savings contracts, best value procurements, use of firm-fixed price contracts or task orders for services, competition for services contracts and task orders, including information technology and business process services, and the development of requirements for services procurements. A draft agenda will be posted at the Panel's Web site at http://www.acqnet.gov/aap prior to each meeting. While these two meetings will include presentations by invitation only, the general public will be given the opportunity to provide oral statements to the Panel at a subsequent meeting to be announced in the Federal Register. The Panel also seeks written public statements of any length specifically related to the working group topics. Although the Panel accepts written comments until the date of the meeting (unless otherwise stated), written comments should be received by the DFO at least five business days prior to the meeting date so that the written comments may be made available to the Panel for their consideration. Written comments should be supplied, electronically if possible, to the DFO at the e-mail address (or for hardcopies, mailing address) noted below. Acceptable electronic formats include Adobe Acrobat, Microsoft Word, Rich Text files in IBM-PC/Windows 98/2000/XP format. Those providing written comments and who attend the meeting are also asked to bring 35 copies of their comments for public distribution.

SUPPLEMENTARY INFORMATION: The purpose of the Panel is to provide independent advice and recommendations to the Office of Federal Procurement Policy and Congress pursuant to Section 1423 of the Services Acquisition Reform Act of 2003. Interested parties are invited to attend the meetings.

Meeting Accommodations

Individuals requiring special accommodation to access the public meeting listed above should contact the DFO at least five business days prior to the meeting so that appropriate arrangements can be made.

Requests for additional information or written statements should be directed to Laura Auletta, Designated Federal Officer (DFO), at laura.auletta@gsa.gov or (202) 208-7279, General Services Administration, 1800 F. Street, NW., Room 4006, Washington, DC 20405.

Laura Auletta,
Designated Federal Officer (Executive Director).

[FR Doc. 05-4716 Filed 3-8-05; 8:45 am]

BILLING CODE 3110-01-P